DEPARTMENT OF ENERGY

Federal Energy Regulatory Commission

Combined Notice of Filings #1

Take notice that the Commission received the following electric rate filings:

Docket Numbers: ER23-2212-005.

Applicants: New York Independent System Operator, Inc., Consolidated Edison Company of New York, Inc.

Description: Compliance filing: New York Independent System Operator, Inc. submits tariff filing per 35: Con Edison Compliance: Rate Schedule 19 Formula Rate Template to be effective 8/22/2023.

Filed Date: 12/5/24.

Accession Number: 20241205-5077.

Comment Date: 5 p.m. ET 12/26/24.

Docket Numbers: ER23-2448-000.

Applicants: Tunica Windpower LLC.

Description: Supplement to 07/31/2024 Notice of Change in Status of Tunica Windpower LLC.

Filed Date: 12/3/24.

Accession Number: 20241203-5271.

Comment Date: 5 p.m. ET 12/24/24.

Docket Numbers: ER24-2039-001.

Applicants: Deseret Generation & Transmission Co-operative, Inc.

Description: Compliance filing: OATT Order No. 2023 Second Compliance to be effective 5/17/2024.

Filed Date: 12/5/24.

Accession Number: 20241205-5032.

Comment Date: 5 p.m. ET 12/26/24.

Docket Numbers: ER25-85-000.

Applicants: Westside Canal 2A, LLC.

Description: Supplement to October 11, 2024, Westside Canal 2A, LLC tariff filing.

Filed Date: 12/2/24.

Accession Number: 20241202-5301.

Comment Date: 5 p.m. ET 12/12/24.

Docket Numbers: ER25-645-000.

Applicants: PJM Interconnection, L.L.C.

Description: 205(d) Rate Filing: Original CSA Service Agreement No. 7423; Project Identifier #Q505 to be effective 11/4/2024.

Filed Date: 12/4/24.

Accession Number: 20241204-5121.

Comment Date: 5 p.m. ET 12/26/24.

Docket Numbers: ER25-647-000.

Applicants: Southwestern Public Service Company.

Description: Petition for Limited Waiver of Southwestern Public Service Company.

Filed Date: 12/4/24.

Accession Number: 20241204-5124.

Comment Date: 5 p.m. ET 12/26/24.

Docket Numbers: ER25-651-000.

Applicants: PJM Interconnection, L.L.C.

Description: 205(d) Rate Filing: Original GIA, Service Agreement No. 7419; AF2-032 to be effective 11/4/2024.

Filed Date: 12/4/24.

Accession Number: 20241204-5223.

Comment Date: 5 p.m. ET 12/26/24.

Docket Numbers: ER25-652-000.

Applicants: American Electric Power Service Corporation.

Description: 205(d) Rate Filing: AEPSC submits a revision to Attachment 1 of the ILDSA—SA No. 1252 to be effective 3/1/2025.

Filed Date: 12/5/24.

Accession Number: 20241205-5025.

Comment Date: 5 p.m. ET 12/26/24.

Docket Numbers: ER25-653-000.

Applicants: Deseret Generation & Transmission Co-operative, Inc.

Description: Initial rate filing: WestConnect PPA Concurrence to be effective 12/6/2024.

Filed Date: 12/5/24.

Accession Number: 20241205-5031.

Comment Date: 5 p.m. ET 12/26/24.

Docket Numbers: ER25-654-000.

Applicants: PJM Interconnection, L.L.C.

Description: 205(d) Rate Filing: Amendment to WMPA SA No. 6915; Queue No. AF2-039/AF2-088 to be effective 2/4/2024.

Filed Date: 12/5/24.

Accession Number: 20241205-5043.

Comment Date: 5 p.m. ET 12/26/24.

Docket Numbers: ER25-655-000.

Applicants: Midcontinent Independent System Operator, Inc.

Description: 205(d) Rate Filing: 2024-12-05_SA 4406 Cleco Power-Cleco Power GIA (Coughlin 6) to be effective 11/26/2024.

Filed Date: 12/5/24.

Accession Number: 20241205-5049.

Comment Date: 5 p.m. ET 12/26/24.

Docket Numbers: ER25-656-000.

Applicants: Midcontinent Independent System Operator, Inc.

Description: 205(d) Rate Filing: 2024-12-05_SA 4407 Cleco Power-Cleco Power GIA (Coughlin 7) to be effective 11/26/2024.

Filed Date: 12/5/24.

Accession Number: 20241205-5053.

Comment Date: 5 p.m. ET 12/26/24.

Docket Numbers: ER25-658-000.

Applicants: PJM Interconnection, L.L.C.

Description: 205(d) Rate Filing: Amendment to ISA, Service Agreement No. 3483; W3-032A to be effective 2/4/2025.

Filed Date: 12/5/24.

Accession Number: 20241205-5059.

Comment Date: 5 p.m. ET 12/26/24.

Docket Numbers: ER25-659-000.

Applicants: Otter Tail Power Company.

Description: 205(d) Rate Filing: 2024-12-05_SA 2690 OTP-MDU-NorthWestern Energy 2nd Rev TIA (Big Stone) to be effective 12/6/2024.

Filed Date: 12/5/24.

Accession Number: 20241205-5066.

Comment Date: 5 p.m. ET 12/26/24.

Docket Numbers: ER25-660-000.

Applicants: San Diego Gas & Electric.

Description: 205(d) Rate Filing: Service Agreement No. 70 to be effective 12/6/2024.

Filed Date: 12/5/24.

Accession Number: 20241205-5107.

Comment Date: 5 p.m. ET 12/26/24.

Docket Numbers: ER25-661-000.

Applicants: Southwest Power Pool, Inc.

Description: 205(d) Rate Filing: Revisions to Clarify RUC System-Wide Make Whole Payment Distribution Volume to be effective 2/4/2025.

Filed Date: 12/5/24.

Accession Number: 20241205-5109.

Comment Date: 5 p.m. ET 12/26/24.

Docket Numbers: ER25-662-000.

Applicants: PacifiCorp.

Description: 205(d) Rate Filing: BPA Non-Conforming PTP SA 656, Rev 5 (Lost Creek) to be effective 12/1/2024.

Filed Date: 12/5/24.

Accession Number: 20241205-5152.

Comment Date: 5 p.m. ET 12/26/24.

Docket Numbers: ER25-663-000.

Applicants: California Independent System Operator Corporation.

Description: 205(d) Rate Filing: 2024-12-05 EDAM Implementation Agmt—CAISO and BANC & Request for Notice Waiver to be effective 12/6/2024.

Filed Date: 12/5/24.

Accession Number: 20241205-5159.

Comment Date: 5 p.m. ET 12/26/24.

Docket Numbers: ER25-664-000.

Applicants: Tri-State Generation and Transmission Association, Inc.

Description: 205(d) Rate Filing: Amendment to Rate Schedule FERC No. 40 to be effective 2/4/2025.

Filed Date: 12/5/24.

Accession Number: 20241205-5160.

Comment Date: 5 p.m. ET 12/26/24.

Take notice that the Commission received the following electric securities filings:

Docket Numbers: ES25-17-000.

Applicants: Trans-Allegheny Interstate Line Company.

Description: Application Under Section 204 of the Federal Power Act for Authorization to Issue Securities of Trans-Allegheny Interstate Line Company.

Filed Date: 12/4/24.

Accession Number: 20241204-5281.

Comment Date: 5 p.m. ET 12/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 5, 2024.
Carlos D. Clay,
Acting Deputy Secretary.

[FR Doc. 2024-29092 Filed 12-10-24; 8:45 am]

BILLING CODE 6717-01-P